DEPARTMENT OF ENERGY

Federal Energy Regulatory Commission

Combined Notice of Filings #1

Take notice that the Commission received the following electric rate filings:

Docket Numbers: ER10-1945-005; ER10-2042-017; ER10-2039-005; ER10-1938-012; ER10-1934-011; ER10-1893-011; ER10-1871-005; ER13-1406-003; ER10-1862-011.

Applicants: Auburndale Peaker Energy Center, LLC, Calpine Energy Services, L.P., Calpine Newark, LLC, Calpine Power America—CA, LLC, CES Marketing IX, LLC, CES Marketing X, LLC, Morgan Energy Center, LLC, Osprey Energy Center, LLC, Power Contract Financing, L.L.C.

Description: Supplement to December 31, 2014 Updated Market Power Analysis of the Calpine Southeast MBR Sellers.

Filed Date: 6/25/15.

Accession Number: 20150625-5130.

Comments Due: 5 p.m. ET 7/16/15.

Docket Numbers: ER10-2407-003; ER10-2425-004; ER10-2424-003; ER13-1816-002.

Applicants: Lost Lakes Wind Farm LLC, Pioneer Prairie Wind Farm I, LLC, Rail Splitter Wind Farm, LLC, Sustaining Power Solutions LLC

Description: Updated Market Power Analysis for Central Region of Lost Lakes Wind Farm LLC, et al.

Filed Date: 6/26/15.

Accession Number: 20150626-5087.

Comments Due: 5 p.m. ET 8/25/15.

Docket Numbers: ER11-47-006; ER12-1540-004; ER12-1541-004; ER12-1542-004; ER12-1544-004; ER10-2981-006; ER14-2475-003; ER14-2476-003; ER14-2477-003; ER14-594-006; ER11-46-009; ER10-2975-009; ER11-41-006; ER12-2343-004; ER13-1896-009.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc., CSW Energy Services, Inc., AEP Retail Energy Partners LLC, AEP Energy, Inc., AEP Generation Resources Inc.

Description: Updated Market Power Analysis in the Southwest Power Pool balancing area authority of the AEP MBR affiliates.

Filed Date: 6/26/15.

Accession Number: 20150626-5039.

Comments Due: 5 p.m. ET 8/25/15.

Docket Numbers: ER14-2871-004; ER10-3243-006; ER10-3244-006; ER10-3245-005; ER10-3249-005; ER10-3250-005; ER10-3251-004; ER14-2382-004; ER15-621-003; ER11-2639-005; ER15-622-003; ER15-463-003; ER15-110-003; ER13-1586-005; ER10-1992-011.

Applicants: Cameron Ridge, LLC, Chandler Wind Partners, LLC, Coso Geothermal Power Holdings, LLC, Foote Creek II, LLC, Foote Creek III, LLC, Foote Creek IV, LLC, Oak Creek Wind Power, LLC, ON Wind Energy LLC, Pacific Crest Power, LLC, Ridge Crest Wind Partners, LLC, Ridgetop Energy, LLC, San Gorgonio West Winds II, LLC, Terra-Gen Energy Services, LLC, TGP Energy Management, LLC, Victory Garden Phase IV, LLC.

Description: Notice of Non-Material Change in Status of Cameron Ridge, LLC, et al.

Filed Date: 6/26/15.

Accession Number: 20150626-5085.

Comments Due: 5 p.m. ET 7/17/15.

Docket Numbers: ER15-1984-000.

Applicants: Pacific Wind Lessee, LLC.

Description: Section 205(d) Rate Filing: Revised Shared Transmission Facilities Agreement and Request for Waiver to be effective 6/26/2015.

Filed Date: 6/25/15.

Accession Number: 20150625-5088.

Comments Due: 5 p.m. ET 7/16/15.

Docket Numbers: ER15-1985-000.

Applicants: AV Solar Ranch 1, LLC.

Description: Section 205(d) Rate Filing: Exelon Tariff Changes to be effective 6/29/2015.

Filed Date: 6/26/15.

Accession Number: 20150626-5015.

Comments Due: 5 p.m. ET 7/17/15.

Docket Numbers: ER15-1986-000.

Applicants: Baltimore Gas and Electric Company.

Description: Section 205(d) Rate Filing: Exelon MBR Tariff Changes to be effective 6/29/2015.

Filed Date: 6/26/15.

Accession Number: 20150626-5016.

Comments Due: 5 p.m. ET 7/17/15.

Docket Numbers: ER15-1987-000.

Applicants: Beebe Renewable Energy, LLC.

Description: Section 205(d) Rate Filing: Exelon MBR Tariff Changes to be effective 6/29/2015.

Filed Date: 6/26/15.

Accession Number: 20150626-5017.

Comments Due: 5 p.m. ET 7/17/15.

Docket Numbers: ER15-1988-000.

Applicants: Calvert Cliffs Nuclear Power Plant, LLC.

Description: Section 205(d) Rate Filing: Exelon MBR Tariff Changes to be effective 6/29/2015.

Filed Date: 6/26/15.

Accession Number: 20150626-5018.

Comments Due: 5 p.m. ET 7/17/15.

Docket Numbers: ER15-1989-000.

Applicants: CER Generation, LLC.

Description: Section 205(d) Rate Filing: Exelon MBR Tariff Changes to be effective 6/29/2015.

Filed Date: 6/26/15.

Accession Number: 20150626-5019.

Comments Due: 5 p.m. ET 7/17/15.

Docket Numbers: ER15-1990-000.

Applicants: Commonwealth Edison Company.

Description: Section 205(d) Rate Filing: Exelon MBR Tariff Changes to be effective 6/29/2015.

Filed Date: 6/26/15.

Accession Number: 20150626-5020.

Comments Due: 5 p.m. ET 7/17/15.

Docket Numbers: ER15-1991-000.

Applicants: Constellation Mystic Power, LLC.

Description: Section 205(d) Rate Filing: Exelon MBR Tariff Changes to be effective 6/29/2015.

Filed Date: 6/26/15.

Accession Number: 20150626-5021.

Comments Due: 5 p.m. ET 7/17/15.

Docket Numbers: ER15-1992-000.

Applicants: Constellation Power Source Generation, LLC.

Description: Section 205(d) Rate Filing: Exelon MBR Tariff Changes to be effective 6/29/2015.

Filed Date: 6/26/15.

Accession Number: 20150626-5022.

Comments Due: 5 p.m. ET 7/17/15.

Docket Numbers: ER15-1993-000.

Applicants: Cow Branch Wind Power, LLC.

Description: Section 205(d) Rate Filing: Exelon MBR Tariff Changes to be effective 6/29/2015.

Filed Date: 6/26/15.

Accession Number: 20150626-5023.

Comments Due: 5 p.m. ET 7/17/15.

Docket Numbers: ER15-1994-000.

Applicants: CR Clearing, LLC.

Description: Section 205(d) Rate Filing: Exelon MBR Tariff Changes to be effective 6/29/2015.

Filed Date: 6/26/15.

Accession Number: 20150626-5024.

Comments Due: 5 p.m. ET 7/17/15.

Docket Numbers: ER15-1995-000.

Applicants: Criterion Power Partners, LLC.

Description: Section 205(d) Rate Filing: Exelon MBR Tariff Changes to be effective 6/29/2015.

Filed Date: 6/26/15.

Accession Number: 20150626-5025.

Comments Due: 5 p.m. ET 7/17/15.

Docket Numbers: ER15-1996-000.

Applicants: Exelon Framingham, LLC.

Description: Section 205(d) Rate Filing: Exelon MBR Tariff Changes to be effective 6/29/2015.

Filed Date: 6/26/15.

Accession Number: 20150626-5026.

Comments Due: 5 p.m. ET 7/17/15.

Docket Numbers: ER15-1997-000.

Applicants: Exelon Wyman, LLC.

Description: Section 205(d) Rate Filing: Exelon MBR Tariff Changes to be effective 6/29/2015.

Filed Date: 6/26/15.

Accession Number: 20150626-5027.

Comments Due: 5 p.m. ET 7/17/15.

Docket Numbers: ER15-1998-000.

Applicants: Harvest II Windfarm, LLC.

Description: Section 205(d) Rate Filing: Exelon MBR Tariff Changes to be effective 6/29/2015.

Filed Date: 6/26/15.

Accession Number: 20150626-5028.

Comments Due: 5 p.m. ET 7/17/15.

Docket Numbers: ER15-1999-000.

Applicants: Harvest Windfarm, LLC.

Description: Section 205(d) Rate Filing: Exelon MBR Tariff Changes to be effective 6/29/2015.

Filed Date: 6/26/15.

Accession Number: 20150626-5029.

Comments Due: 5 p.m. ET 7/17/15.

Docket Numbers: ER15-2000-000.

Applicants: Michigan Wind 1, LLC.

Description: Section 205(d) Rate Filing: Exelon MBR Tariff Changes to be effective 6/29/2015.

Filed Date: 6/26/15.

Accession Number: 20150626-5030.

Comments Due: 5 p.m. ET 7/17/15.

Docket Numbers: ER15-2001-000.

Applicants: Michigan Wind 2, LLC.

Description: Section 205(d) Rate Filing: Exelon MBR Tariff Changes to be effective 6/29/2015.

Filed Date: 6/26/15.

Accession Number: 20150626-5031.

Comments Due: 5 p.m. ET 7/17/15.

Docket Numbers: ER15-2002-000.

Applicants: Nine Mile Point Nuclear Station, LLC.

Description: Section 205(d) Rate Filing: Exelon MBR Tariff Changes to be effective 6/29/2015.

Filed Date: 6/26/15.

Accession Number: 20150626-5032.

Comments Due: 5 p.m. ET 7/17/15.

Docket Numbers: ER15-2003-000.

Applicants: PECO Energy Company.

Description: Section 205(d) Rate Filing: Exelon MBR Tariff Changes to be effective 6/29/2015.

Filed Date: 6/26/15.

Accession Number: 20150626-5033.

Comments Due: 5 p.m. ET 7/17/15.

Docket Numbers: ER15-2004-000.

Applicants: Shooting Star Wind Project, LLC.

Description: Section 205(d) Rate Filing: Exelon MBR Tariff Changes to be effective 6/29/2015.

Filed Date: 6/26/15.

Accession Number: 20150626-5034.

Comments Due: 5 p.m. ET 7/17/15.

Docket Numbers: ER15-2005-000.

Applicants: Wildcat Wind, LLC.

Description: Section 205(d) Rate Filing: Exelon MBR Tariff Changes to be effective 6/29/2015.

Filed Date: 6/26/15.

Accession Number: 20150626-5035.

Comments Due: 5 p.m. ET 7/17/15.

Docket Numbers: ER15-2006-000.

Applicants: Wind Capital Holdings, LLC.

Description: Section 205(d) Rate Filing: Exelon MBR Tariff Changes to be effective 6/29/2015.

Filed Date: 6/26/15.

Accession Number: 20150626-5036.

Comments Due: 5 p.m. ET 7/17/15.

Docket Numbers: ER15-2007-000.

Applicants: R.E. Ginna Nuclear Power Plant, LLC.

Description: Section 205(d) Rate Filing: Exelon MBR Tariff Changes to be effective 6/29/2015.

Filed Date: 6/26/15.

Accession Number: 20150626-5076.

Comments Due: 5 p.m. ET 7/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2015.
Kimberly D. Bose,
Secretary.

[FR Doc. 2015-16306 Filed 7-1-15; 8:45 am]

BILLING CODE 6717-01-P